DEPARTMENT OF THE INTERIOR

Bureau of Reclamation

[RR04963000, XXXR0680R1, RR.17549661.1000000]

Notice of Availability of the Lake Powell Pipeline Project Draft Environmental Impact Statement/Draft Resource Management Plan Amendment; Coconino and Mohave Counties, Arizona and Washington and Kane Counties, Utah

AGENCY: Bureau of Reclamation and Bureau of Land Management, Interior.

ACTION: Notice of availability.

SUMMARY: In accordance with the National Environmental Policy Act of 1969, as amended, and the Federal Land Policy and Management Act of 1976, as amended, the Bureau of Reclamation (Reclamation), in coordination with the Bureau of Land Management (BLM) and four other cooperating agencies, announce the availability of the Lake Powell Pipeline (LPP) Project Draft Environmental Impact Statement (EIS) and the Arizona Strip Field Office Draft Resource Management Plan Amendment (RMPA) (Draft EIS/Draft RMPA) for public review and comment for 90 days. The Draft EIS/Draft RMPA describes the potential environmental impacts of the No Action Alternative and two action alternatives for the LPP, proposed by the Utah Board of Water Resources (UBWR).

DATES: To ensure that comments will be considered, Reclamation must receive written comments on the Draft EIS/Draft RMPA within 90 days of the date that this Federal Register notice is published. Send written comments on the Draft EIS/Draft RMPA on or before September 8, 2020. Due to unforeseen circumstances, this notice was issued after the Environmental Protection Agency's (EPA) weekly publication of EIS filings in the Federal Register on June 5, 2020. A correction representing the revised comment period will be sent to the EPA after this notice is published. Reclamation will host two virtual, online public meetings on July 8 and 9, 2020 due to the continuing public health concerns and a desire to facilitate maximum public participation without the need to limit attendees. Details regarding those meetings, including web login, conference line and registration information will be published on Reclamation's website at https://www.usbr.gov/uc/envdocs/eis/LakePowellPipeline/index.html at least 15 days prior to July 8, 2020.

ADDRESSES: Send written comments or requests for copies of the Draft EIS/Draft RMPA to Mr. Rick Baxter, Project Manager, Bureau of Reclamation, 302 East Lakeview Parkway, Provo, Utah 84606 or via email to lpp@usbr.gov. The Draft EIS/Draft RMPA is accessible from the following website: https://www.usbr.gov/uc/envdocs/eis/LakePowellPipeline/index.html.

FOR FURTHER INFORMATION CONTACT: Mr. Rick Baxter, Project Manager, 801-379-1078; or by email at rbaxter@usbr.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft EIS/Draft RMPA analyzes the potential direct, indirect, and cumulative physical, biological, and socioeconomic environmental effects that may result from construction and operation of the two action alternatives: The Highway Alternative and the Southern Alternative, including three RMPA sub-alternatives for the Southern Alternative. Both alternatives consist of a water delivery pipeline that begins at Lake Powell near Glen Canyon Dam in Page, Arizona, and ends at Sand Hollow Reservoir near St. George, Utah. The pipeline would deliver up to 86,249 acre-feet of water from Lake Powell to Washington County. Both alternatives also include a water exchange contract between Reclamation and UBWR.

The BLM Arizona Strip Field Office is considering amending a portion of the Arizona Strip Field Office (ASFO) Resource Management Plan (RMP) related to the Kanab Creek Area of Critical Environmental Concern (ACEC). Pursuant to 43 CFR 1610.7-2(b), the BLM is required to publish a notice in the Federal Register of proposed ACECs, including changes to existing ACECs, and specify the resource use limitations. This notice announces a concurrent 60-day public comment period for proposed changes to the existing Kanab Creek ACEC. The BLM proposes three sub-alternatives under the Southern Alternative to amend the ASFO RMP to consider allowing development of the LPP within the Kanab Creek ACEC or adjust the ACEC boundary. The Kanab Creek ACEC would not change under the No Action or Highway alternatives. Pertinent information regarding changes to the Kanab Creek ACEC, including proposed designation acreage and resource use limitations are described in the table below.

Kanab Creek ACEC Acres and Use Restrictions Under the Alternatives
No action alternative and highway alternative | Southern alternative: Sub-alternative 1 | Southern alternative: Sub-alternative 2 | Southern alternative: Sub-alternative 3
13,148 acres—MA-LR-06: ROWs, permits, leases, easements will be evaluated on a case-by-case basis. New land use authorizations will be discouraged within avoidance areas, allowed only when no reasonable alternative exists and impacts to sensitive resources can be mitigated. Route new ROWs away from high-density listed species' populations, cultural sites, and along edges of avoidance areas. Include mitigation such as underground placement of linear ROWs along existing roads in the House Rock Valley area and special protection measures for archaeological resources LA-VR-01: Class I: 80,760 acres, Class II: 368,032 acres, Class III: 1,459,374 acres, Class IV: 72,897 acres | 13,148 acres—Amend MA-LR-06 to allow new land use authorizations when effects on ACEC sensitive resources could be mitigated Amend LA-VR-01: Designated utility corridor inside ACEC would be Visual Resource Management (VRM) Class IV | 12,243 acres—Change VRM designation on 230.6 acres from VRM Class II to VRM Class III. Maintain utility corridor as VRM Class IV | 13,148 acres—Amend MA-LR-06 and LA-VR-01 as in RMPA Sub-alternative 1. Amend MA-LR-12: The utility corridor within Kanab Creek ACEC would be less than 1 mile wide. Manage area outside utility corridor as VRM Class II or Class III. Maintain utility corridor as VRM Class IV.

Authority

The LPP was authorized by the Utah State Legislature under the Lake Powell Pipeline Development Act of 2006 (40 CFR 1501.7; 43 CFR 1610.2 and 1610.7).

Public Review of Draft EIS/Draft RMPA

Copies of the Draft EIS/Draft RMPA are available upon request. See information under the ADDRESSES section.

Special Assistance for the Online/Virtual Public Meeting

If special assistance is required at the public meetings, please contact Ms. Ellen Hopp, Galileo Project, LLC, Project Administrator, at ellen.hopp@galileoaz.com. Please notify Ms. Hopp as far in advance as possible to enable Reclamation to secure the needed services. If a request cannot be honored, the requestor will be notified.

Public Disclosure

Please note that public comments and information submitted including names, street addresses, and email addresses of persons who submit comments will be available for public review and disclosure at the above address during regular business hours (8 a.m. to 4 p.m.), Monday through Friday, except holidays. Before including your address, phone number, email address, or other personal identifying information in your comment, you should be aware that your entire comment—including your personal identifying information—may be made publicly available at any time. While you can ask us in your comment to withhold your personal identifying information from public review, we cannot guarantee that we will be able to do so.

Brent Esplin,
Regional Director, Upper Colorado Basin—Interior Region 7, Bureau of Reclamation.

[FR Doc. 2020-12382 Filed 6-4-20; 4:15 pm]

BILLING CODE 4332-90-P